DEPARTMENT OF COMMERCE

National Oceanic and Atmospheric Administration

RIN 0648-XF228

Meeting of the Advisory Committee to the United States Delegation to the International Commission for the Conservation of Atlantic Tunas

AGENCY: National Marine Fisheries Service (NMFS), National Oceanic and Atmospheric Administration (NOAA), Commerce.

ACTION: Notice of Advisory Committee meeting.

SUMMARY: The Advisory Committee (Committee) to the U.S. Section to the International Commission for the Conservation of Atlantic Tunas (ICCAT) announces its annual spring meeting to be held March 21-23, 2017.

DATES: The open sessions of the Committee meeting will be held on March 21, 2017, 9 a.m. to 6 p.m.; March 22, 2017, 8 a.m. to 3 p.m.; and March 23, 2017, 9 a.m. to 1 p.m. Closed sessions will be held on March 22, 2017, 3 p.m. to 6 p.m., and on March 23, 2017, 8 a.m. to 9 a.m.

ADDRESSES: The meeting will be held at the Embassy Suites by Hilton Hotel, 1100 SE 17th St., Fort Lauderdale, FL 33316. The phone number is (954) 527-2700.

FOR FURTHER INFORMATION CONTACT: Rachel O'Malley at (301) 427-8373.

SUPPLEMENTARY INFORMATION: The Advisory Committee to the U.S. Section to ICCAT will meet in open session to receive and discuss presentations on bluefin tuna science; information on the 2016 ICCAT meeting results and U.S. implementation of ICCAT decisions; NMFS research and monitoring activities; global and domestic initiatives related to ICCAT; the Atlantic Tunas Convention Act-required consultation on any identification of countries that are diminishing the effectiveness of ICCAT; the results of the meetings of the Committee's Species Working Groups; and other matters relating to the international management of ICCAT species. The public will have access to the open sessions of the meeting, but there will be no opportunity for public comment. The agenda is available from the Committee's Executive Secretary upon request (see FOR FURTHER INFORMATION CONTACT).

The Committee will hold a bluefin tuna science workshop on March 21, 2017, from 9 a.m. to 6 p.m. This workshop will be open to the public.

The Committee will meet in its Species Working Groups for part of the afternoon of March 22, 2017, and for one hour on the morning of March 23, 2017. These sessions are not open to the public, but the results of the species working group discussions will be reported to the full Advisory Committee during the Committee's open session on March 23, 2017.

Special Accommodations

The meeting location is physically accessible to people with disabilities. Requests for sign language interpretation or other auxiliary aids should be directed to Rachel O'Malley at (301) 427-8373 at least 5 days prior to the meeting date.

Dated: February 13, 2017.
John Henderschedt,
Director, Office of International Affairs and Seafood Inspection, National Marine Fisheries Service.

[FR Doc. 2017-03152 Filed 2-16-17; 8:45 am]

BILLING CODE 3510-22-P